DEPARTMENT OF COMMERCE

International Trade Administration

[A-122-506]

Notice of Final Results of Antidumping Duty New Shipper Review: Oil Country Tubular Goods From Canada

AGENCY: Import Administration, International Trade Administration, Department of Commerce.

ACTION: Notice of final results of antidumping duty new shipper review.

SUMMARY: On November 30, 1999, the Department of Commerce (“the Department”) published the preliminary results of new shipper review of the antidumping duty order on oil country tubular goods (“OCTG”) from Canada. This review covers one manufacturer/exporter, Atlas Tube, Inc. (“Atlas”), and the period June 1, 1998 through November 30, 1998.

We received comments by petitioners, Lone Star Steel Company and Maverick Tube Corporation, (collectively “the petitioners”), and rebuttal comments from Atlas. Based on our analysis of comments received and corrections from verification, we have made changes in the margin calculations. Therefore, the final results differ from the preliminary results. The final weighted-average dumping margin for the reviewed firm is listed below, in the section entitled “Final Results of Review.”

EFFECTIVE DATE: June 8, 2000.

FOR FURTHER INFORMATION CONTACT: Mark Manning or Nithya Nagarajan, AD/CVD Enforcement Group II, Office IV, Import Administration, International Trade Administration, U.S. Department of Commerce, 14th Street and Constitution Avenue, NW., Washington, DC 20230; telephone (202) 482-3936 or (202) 482-5253, respectively.

SUPPLEMENTARY INFORMATION:

Applicable Statute

Unless otherwise indicated, all citations to the statute are references to the provisions effective January 1, 1995, the effective date of the amendments made to the Tariff Act of 1930 (the Act) by the Uruguay Rounds Agreements Act (“URAA”). In addition, unless otherwise indicated, all citations to the Department's regulations are to the current regulations at 19 CFR part 351 (1998).

Background

On November 30, 1999, the Department published the preliminary results of administrative review of the antidumping duty order on OCTG from Canada (64 FR 66886). The review covers one manufacturer/exporter. The period of review (“POR”) is June 1, 1998 through November 30, 1998. We invited parties to comment on our preliminary results of review. None of the interested parties requested a public hearing; therefore, none was held. The Department has conducted this administrative review in accordance with section 751 of the Act.

Scope of the Review

The products covered by this review include shipments of OCTG from Canada. This includes American Petroleum Institute (“API”) specification OCTG and all other pipe with the following characteristics except entries which the Department determined through its end-use certification procedure were not used in OCTG applications: Length of at least 16 feet; outside diameter of standard sizes published in the API or proprietary specifications for OCTG with tolerances of plus ⅛ inch for diameters less than or equal to 8⅝ inches and plus ¼ inch for diameters greater than 8⅝ inches, minimum wall thickness as identified for a given outer diameter as published in the API or proprietary specifications for OCTG; a minimum of 40,000 PSI yield strength and a minimum 60,000 PSI tensile strength; and if with seams, must be electric resistance welded.

Furthermore, imports covered by this review include OCTG with non-standard size wall thickness greater than the minimum identified for a given outer diameter as published in the API or proprietary specifications for OCTG, with surface scabs or slivers, irregularly cut ends, ID or OD weld flash, or open seams; OCTG may be bent, flattened or oval, and may lack certification because the pipe has not been mechanically tested or has failed those tests. This merchandise is currently classifiable under the Harmonized Tariff Schedules (HTS) item numbers 7304.20, 7305.20, and 7306.20. The HTS item numbers are provided for convenience and U.S. Customs purposes. The written description remains dispositive.

Verification

As provided in section 782(i) of the Act, we conducted verifications of the information provided by Atlas. We used standard verification procedures, including: On-site inspection of the manufacturers' facilities, examination of relevant sales and financial records, and selection of relevant source documentation as exhibits. Our verification findings are detailed in the memoranda dated March 8, 2000, the public versions of which are on file in the Central Records Unit, Room B-099 of the Main Commerce building (B-099).

Analysis of Comments Received

All issues raised in the case and rebuttal briefs by parties to this new shipper review are addressed in the “Issues and Decision Memorandum” (“Decision Memorandum”) from Holly A. Kuga, Acting Deputy Assistant Secretary, Important Administration, to Troy H. Cribb, Acting Assistant Secretary for Import Administration, dated June 1, 2000, which is hereby adopted by this notice. A list of the issues parties have raised and to which we have responded, all of which are in the Decision Memorandum, is attached to this notice as an Appendix. Parties will find a complete discussion of all issues raised in this review and the corresponding recommendations in this public memorandum which is on file in room B-099. In addition a complete version of the Decision Memo can be accessed directly on the Web at www.ita.doc.gov/import_admin/records/frn/, under the heading “Applicable Country.” The paper copy and electronic version of the Decision Memorandum are identical in content.

Changes Since the Preliminary Results of Review

The Department, at verification, found certain errors in the reported values for inland freight in the home market and U.S. sales databases. The Department adjusted for these errors in these final results of new shipper review. See Sales Verification Report, dated March 8, 2000; see also Final Calculation Memorandum, dated June 1, 2000. No other changes were made to our margin calculation program.

Final Results of Review

We determine that the following percentage weighted-average margins exist for the period June 1, 1998, through November 30, 1998:

Manufacturer/exporter | Margin (percent)
Atlas Tube, Inc | 0.88

The Department shall determine, and Customs shall assess, antidumping duties on all appropriate entries. In accordance with 19 CFR 351.212(b), we have calculated an importer-specific duty assessment rate. With respect to both export price and constructed export price sales, we divided total dumping margins for the reviewed sales by the total entered value of those reviewed sales for each importer. We will direct Customs to assess the resulting percentage margins against the entered Customs values for the subject merchandise on each of that importer's entries under the order during the review period.

Cash Deposit Requirements

The following deposit requirements will be effective upon completion of the final results of this administrative review for all shipments of OCTG from Canada entered, or withdrawn from warehouse, for consumption on or after the publication date of the final results of this new shipper review, as provided by section 751(a)(1) of the Act: (1) The cash deposit rate for Atlas will be the rate shown above; (2) for previously reviewed or investigated companies not listed above, the cash deposit rate will continue to be the company-specific rate published for the most recent period; (3) if the exporter is not a firm covered in this review, in a prior review, or the original investigation, but the manufacturer is, the cash deposit rate will be the rate established for the most recent period for the manufacturer of the merchandise; and (4) the cash deposit rate for all other manufacturers or exporters will continue to be 16.65 percent. This rate is the “All-Others” rate established in the less than fair value investigation.

These deposit requirements shall remain in effect until publication of the final results of administrative review for a subsequent review period.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as the only reminder to parties subject to administrative protective orders (“APO”) of their responsibility concerning the return or destruction of proprietary information disclosed under APO in accordance with 19 CFR 351.305 or conversion to judicial protective order is hereby requested. Failure to comply with the regulations and terms of an APO is a violation which is subject to sanction.

This administrative review and notice are in accordance with sections 751(a)(2) and 771(i) of the Act.

Dated: June 1, 2000.
Troy H. Cribb,
Acting Assistant Secretary for Import Administration.

Appendix—Issues in Decision Memo

Comments and Responses

1. Cost of Production and Constructed Value

A. Product Specific Costs

2. Date of Sale

A. Contract Date vs. Invoice Date

3. Home Market Sales and Export Price

A. Billing Adjustments

[FR Doc. 00-14501 Filed 6-7-00; 8:45 am]

BILLING CODE 3510-DS-P